DEPARTMENT OF EDUCATION

Title V Developing Hispanic-Serving Institutions Application—1894-0001; Extension of Public Comment Period; Correction

AGENCY: Department of Education.

ACTION: Correction notice.

SUMMARY: On October 2, 2013 the U.S. Department of Education published a 30-day comment period notice in the Federal Register (Page 60865, Column 2) seeking public comment for an information collection entitled, “Title V Developing Hispanic-Serving Institutions Application—1894-0001”. ED is extending the comment period to November 18, 2013 due to the public's inability to access the collection at the beginning of the comment period.

The Acting Director, Information Collection Clearance Division, Privacy, Information and Records Management Services, Office of Management, hereby issues a correction notice as required by the Paperwork Reduction Act of 1995.

Dated: October 21, 2013.
Kate Mullan,
Acting Director, Information Collection Clearance Division, Privacy, Information and Records Management Services, Office of Management.

[FR Doc. 2013-25002 Filed 10-23-13; 8:45 am]

BILLING CODE 4000-01-P